SECURITIES AND EXCHANGE COMMISSION

[File No. 500-1]

Encore Clean Energy, Inc., Energy & Engine Technology Corp., Equity Media Holdings Corporation, eTotalSource, Inc., Extensions, Inc., Firepond, Inc., and GNC Energy Corporation; Order Withdrawing Trading Suspension as to Extensions, Inc.

December 12, 2012.

The Securities and Exchange Commission hereby withdraws the trading suspension order as to the securities of Extensions, Inc. (“EXTI”) entered November 29, 2012 (“November 29, 2012 Order”).

This order shall be effective immediately.

The remainder of the November 29, 2012 Order remains in full force and effect according to its original terms.

By the Commission.
Kevin M. O'Neill,
Deputy Secretary.

[FR Doc. 2012-30299 Filed 12-12-12; 4:15 pm]

BILLING CODE 8011-01-P